DEPARTMENT OF THE INTERIOR

Bureau of Land Management

[LLWY920000.51010000.ER0000.LVRWK09K1000; WYW174597; COC72909; UTU87237]

Notice of Intent To Prepare an Environmental Impact Statement for the Proposed Energy Gateway South 500-Kilovolt (kV) Alternating Current Transmission Line Project in Wyoming, Colorado, and Utah, and Possible Land Use Plan Amendments

AGENCY: Bureau of Land Management, Interior.

ACTION: Notice of Intent.

SUMMARY: In compliance with the National Environmental Policy Act of 1969, as amended (NEPA), and the Federal Land Policy and Management Act of 1976, as amended, the Bureau of Land Management (BLM) Wyoming State Office intends to prepare an Environmental Impact Statement (EIS). By this notice the BLM is announcing the beginning of the scoping process to solicit public comments and identify issues.

DATES: This notice initiates the public scoping process for the EIS and possible plan amendments. Comments on issues may be submitted in writing until June 30, 2011. The date(s) and location(s) of any scoping meetings will be announced at least 15 days in advance through local media and the BLM Web site at: http://www.blm.gov/wy/st/en/info/NEPA/documents/hdd/gateway_south.html. In order to be considered in the Draft EIS, comments must be received prior to the close of the scoping period or 15 days after the last public meeting, whichever is later. We will provide additional opportunities for public participation upon publication of the Draft EIS.

ADDRESSES: You may submit comments on issues and planning criteria related to any of the plans identified in this notice by any of the following methods:

• Web site: http://www.blm.gov/wy/st/en/info/NEPA/documents/hdd/gateway_south.html.

• E-mail: GatewaySouth_WYMail@blm.gov.

• Mail: BLM Wyoming State Office, Energy Gateway South Transmission Project, P.O. Box 21550, 5353 Yellowstone Road, Cheyenne, Wyoming 82003, Attention: Tamara Gertsch.

FOR FURTHER INFORMATION CONTACT: To have your name added to our mailing list, contact Tamara Gertsch, National Project Manager; telephone (307) 775-6115; address: BLM Wyoming State Office, P.O. Box 21550, Cheyenne, Wyoming 82003; e-mail: GatewaySouth_WYMail@blm.gov.

SUPPLEMENTARY INFORMATION: The EIS for the Proposed Energy Gateway South 500-kV Alternating Current (AC) Transmission Line Project in Wyoming, Colorado, and Utah may address amendments to the following land use plans:

• Colorado Canyons National Conservation Area Resource Management Plan (RMP), 2004*

• Rawlins RMP, 2008

• Green River RMP, 1997

• Grand Junction RMP, 1987

• Little Snake RMP, 1989

• White River RMP, 1997

• House Range RMP, 1987

• Warm Springs RMP, 1987

• Price RMP, 2008

• Ashley National Forest Land and Resource Management Plan (LRMP), 1986

• Manti-La Sal National Forest LRMP, 1986

• Uinta National Forest LRMP, 2003

• Medicine Bow National Forest Revised LRMP, 2003

• Wasatch-Cache National Forest LRMP, 2003

• Routt National Forest Revised LRMP, 1997

• White River National Forest Revised LRMP, 2002

The applicant PacifiCorp, doing business as Rocky Mountain Power, has requested a right-of-way (ROW) authorization to construct, operate, and maintain a 500-kV overhead transmission line that would extend approximately 400 miles, depending on the route selected, from south-central Wyoming to central Utah, potentially crossing northwestern Colorado. The Project would include a single-circuit 500-kV AC transmission line beginning near Medicine Bow, in Carbon County, Wyoming, at the planned Aeolus Substation, and would extend south and west to the planned Clover Substation, near Mona, in Juab County, Utah. The Project also would include two series compensation stations, about 200 acres in size, at two separate points between the planned Aeolus and Clover Substations to improve transport capacity and efficiency of the transmission line. When completed, the Project would transmit about 1,500 megawatts of electricity generated from renewable and thermal sources at planned facilities in Wyoming. Possible alternative routes identified to date cross Federal, State, tribal, and private lands. The requested ROW width on Federal lands for construction and operation of the Project is 250 feet. The Project proponent proposes to predominantly use self-supporting steel lattice single-circuit towers from 140 to 190 feet in height with average spans between towers of 1,000 to 1,500 feet (4 to 5 structures per mile). Permanent and temporary access roads a minimum of 14 feet wide would be needed for the Project. Temporary access roads would be needed for construction only. Temporary work space would be needed during construction for material storage, fly-yards, conductor tensioning sites, and to accommodate vehicles and equipment. Alternative routes currently identified would use portions of utility corridors on Federal lands, parallel portions of existing overhead and underground utilities and roadways, or cross undisturbed land areas.

The BLM will respond to applications for ROWs on BLM-administered lands, and the U.S. Forest Service (USFS) will respond to applications for ROW on lands it administers. Documents pertinent to this proposal may be examined at the following offices:

• BLM, Wyoming State Office, 5353 Yellowstone Road, Cheyenne, Wyoming 82009

• BLM, Rawlins Field Office, 1300 N. Third Street, Rawlins, Wyoming 82301

• BLM, Rock Springs Field Office, 280 Highway 191 N., Rock Springs, Wyoming 82901

• BLM, Little Snake Field Office, 455 Emerson Street, Craig, Colorado 81625

• BLM, White River Field Office, 220 East Market Street, Meeker, Colorado 81641

• BLM, Grand Junction Field Office, 2815 H Road, Grand Junction, Colorado 81506

• BLM, Fillmore Field Office, 35 East, 500 North, Fillmore, Utah 84631

• BLM, Moab Field Office, 82 East Dogwood, Moab, Utah 84532

• BLM, Price Field Office, 125 South, 600 West, Price, Utah 84501

• BLM, Vernal Field Office, 170 South, 500 East, Vernal, Utah 84078

• BLM, Richfield Field Office, 150 East, 900 North, Richfield, Utah 84701

• U.S. Forest Service (Lead Forest Office), Dixie National Forest Office, 1789 North Wedgewood Lane, Cedar City, Utah 84721

Pursuant to Section 368 of the Energy Policy Act of 2005 (42 U.S.C. 15926), a Programmatic EIS was prepared by the Department of Energy for energy corridors in the 11 western states (Washington, Oregon, Idaho, Montana, Wyoming, California, Nevada, Utah, Colorado, Arizona, and New Mexico), and notice of its availability was published on November 28, 2008 (73 FR 72521). Records of Decision (ROD) signed January 14, 2009, designated energy corridors and provided guidance, best management practices, and mitigation measures to be used where linear facilities are proposed crossing Federal lands. Designation of corridors does not require their use, nor does such designation exempt the Federal agencies from conducting an environmental review on each project therin. The Final RODs are available at the following Web site: http://corridoreis.anl.gov/eis/guide/index.cfm. The Project EIS will take into consideration the use of the corridors described in the Final Programmatic EIS. The BLM is the designated lead Federal agency for preparation of the EIS as defined at 40 CFR 1501.5. Agencies with legal jurisdiction or special expertise have been invited to participate as cooperating agencies in preparation of the EIS. The following agencies have agreed to participate as cooperating agencies: USFS; Bureau of Indian Affairs; U.S. Army Corps of Engineers; Department of Defense, and U.S. Fish and Wildlife Service; the States of Wyoming, Colorado, and Utah; Mesa, Moffat, and Rio Blanco counties, Colorado; Carbon, Duchesne, Emery, Juab, Sanpete, and Uintah counties, Utah; and Carbon County, Little Snake River Conservation District, Medicine Bow Conservation District, Saratoga-Encampment-Rawlins Conservation District, and Sweetwater County Conservation District, Wyoming.

During the public scoping period, the BLM will solicit public comments on behalf of all cooperating agencies regarding issues, concerns, and opportunities that should be considered in the analysis of the proposed action. Comments on issues and potential impacts, or suggestions for additional or different alternatives may be submitted to the addresses listed in the ADDRESSES section above. The purpose of the public scoping process is to determine relevant issues that will influence the scope of the environmental analysis, including alternatives, and guide the process for developing the EIS. At present, the BLM and cooperating agencies have identified the following preliminary issues:

• Socioeconomic impacts;

• Public health and safety;

• Air quality;

• Soil disturbances and erosion;

• Wildlife and vegetation, including threatened and endangered and sensitive species;

• Cultural resources and historical sites;

• Paleontological resources;

• Changes in visual quality and settings;

• National Scenic and Historic Trails; and

• Conflicts with other land uses and management prescriptions on various areas of critical environmental concern, scenic byways, inventoried roadless areas on National Forests, wilderness study areas, and wilderness characteristic lands that occur within the Project area.

Authorization of this proposal may require amendment(s) of the BLM and USFS land use plans listed above.

By this notice, the BLM is complying with requirements in 43 CFR 1610.2(c) to notify the public of potential amendments to land use plans, predicated on the findings of the EIS. Approval of this proposal may also result in the amendment(s) of USFS LRMPs. Pursuant to 36 CFR 219.9, the USFS notifies the public of potential amendments to LRMPs. If a land use plan amendment is necessary, the BLM and USFS would integrate the land use planning process as described in 43 CFR subpart 1610 and 36 CFR 219.8, concurrently, into the NEPA process for this Project. The plan amendments would comply with all applicable Federal law, regulations, and agency policies. The plan amendments would apply only to public lands managed by the BLM or USFS and would recognize all valid existing rights.

Native American tribes will be consulted to identify areas, sites, and objects important to their cultural and religious heritage. Plan amendment decisions would comply with the Endangered Species Act and follow interagency agreements with the U.S. Fish and Wildlife Service regarding the Section 7 consultation process. Because the proposed Project may involve action in floodplains or wetlands, this Notice of Intent also serves as a notice of proposed floodplain or wetland action, in accordance with Department of Energy regulations for Compliance with Floodplain and Wetlands Environmental Review Requirements at 10 CFR 1022.12(a). The EIS will include a floodplain/wetland assessment and, if required, a floodplain/wetland statement of findings will be issued with the Final EIS or ROD.

The BLM will use and coordinate the NEPA commenting process to satisfy the public involvement process for Section 106 of the National Historic Preservation Act (16 U.S.C. 470(f)) as provided for in 36 CFR 800.2(d)(3)). Native American tribal consultations will be conducted in accordance with policy, and tribal concerns will be given due consideration, including impacts on Indian trust assets.

Before including your address, phone number, e-mail address, or any other personal identifying information in your comment, you should be aware that your entire comment—including your personal identifying information—may be made publicly available at any time. While you may request in your comment that your personal identifying information be withheld from public review, we cannot guarantee that we will be able to do so.

Donald A. Simpson,
Wyoming State Director, Bureau of Land Management.

[FR Doc. 2011-7736 Filed 3-31-11; 8:45 am]

BILLING CODE 4310-22-P